DEPARTMENT OF HEALTH AND HUMAN SERVICES

Administration for Children and Families

[Assistance Listing Number: 93.576]

Announcement of the Intent To Award a Replacement Grant to Catholic Charities USA in Alexandria, VA

AGENCY: Office of Refugee Resettlement (ORR), Administration for Children and Families (ACF), Department of Health and Human Services (HHS).

ACTION: Notice of issuance of a Replacement Award.

SUMMARY: The ACF, ORR, Division of Refugee Services (DRS) announces the intent to award a replacement cooperative agreement in the amount of up to $4,500,000 to Catholic Charities USA in Alexandria, VA.

DATES: The proposed period of performance is 9/30/25 to 9/29/26.

FOR FURTHER INFORMATION CONTACT: Yimeem Vu, Office of Refugee Resettlement, Administration for Children and Families, 330 C St. SW, Washington, DC 20201. Telephone: (202) 401-4825; Email: yimeem.vu@acf.hhs.gov.

SUPPLEMENTARY INFORMATION: ORR intends to issue a Replacement Award in the amount of $4,500,000 to Catholic Charities USA in Alexandria, VA. ORR proposes to have the recipient conduct the following activities: provide intensive case management services to eligible populations through the ORR Preferred Communities (PC) program. The action is needed because the United States Conference of Catholic Bishops (USCCB) voluntarily relinquished their PC award. ORR is seeking a replacement PC program grant recipient to ensure national intensive case management coverage.

Statutory Authority: The statutory authority for the Preferred Communities program is 8 U.S.C. 1522(c).

Elizabeth Leo,
Policy Branch Chief, Office of Grants Policy, Office of Administration.

[FR Doc. 2025-18283 Filed 9-18-25; 4:15 pm]

BILLING CODE 4184-90-P